DEPARTMENT OF JUSTICE

Antitrust Division

Notice Pursuant to the National Cooperative Research and Production Act of 1993—United States Adopted Names Council

Notice is hereby given that, on September 17, 2004, pursuant to section 6(a) of the National Cooperative Research and Production Act of 1993, 15 U.S.C. 4301 et seq. (“the Act”), United States Adopted Names Council (“USAN”) on behalf of itself and its sponsors has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: United States Adopted Names Council, Chicago, IL. The nature and scope of USAN's standards development activities are: The development of standards for simple and unique nonproprietary names for drugs by establishing logical nomenclature classifications based on pharmacological and/or chemical relationships. The USAN is sponsored by the American Medical Association, the American Pharmacists Association, and United States Pharmacopeia. USAN works closely with the World Health Organization International Nonproprietary Name Committee (INN) and various national nomenclature groups to develop global standardization and unification of drug nomenclature and related rules to ensure that drug information is communicated accurately and unambiguously.

Dorothy B. Fountain,
Deputy Director of Operations, Antitrust Division.

[FR Doc. 05-3438 Filed 2-22-05; 8:45 am]

BILLING CODE 4410-11-M